DEPARTMENT OF TRANSPORTATION

Federal Aviation Administration

14 CFR Part 39

[Docket No. FAA-2011-0303; Directorate Identifier 2010-NM-214-AD]

RIN 2120-AA64

Airworthiness Directives; The Boeing Company Model 747-100, 747-100B, 747-100B SUD, 747-200B, 747-200C, 747-200F, 747-300, 747-400, 747-400D, 747-400F, 747SR, and 747SP Series Airplanes

AGENCY: Federal Aviation Administration (FAA), DOT.

ACTION: Notice of proposed rulemaking (NPRM).

SUMMARY: We propose to supersede an existing airworthiness directive (AD) that applies to the products listed above. The existing AD currently requires an inspection of the No. 2 and No. 3 windows on the left and right sides of the airplane to determine their part numbers, related investigative and corrective actions if necessary, and repetitive inspections of single pane windows. Since we issued that AD, we have determined that terminating action for the repetitive inspections is necessary. This proposed AD would add a requirement to install dual pane No. 2 and No. 3 windows. This proposed AD also removes certain airplanes from the applicability. We are proposing this AD to detect and correct cracking in the fail-safe interlayer of certain No. 2 and No. 3 glass windows, which could result in loss of the window and consequent rapid loss of cabin pressure. Loss of the window could also result in crew communication difficulties or incapacitation of the crew.

DATES: We must receive comments on this proposed AD by May 23, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, Washington 98124-2207; phone: 206-544-5000, extension 1; fax: 206-766-5680; e-mail: me.boecom@boeing.com; Internet: https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Steven Fox, Senior Aerospace Engineer, Airframe Branch, ANM-120S, Seattle Aircraft Certification Office (ACO), FAA, 1601 Lind Avenue, SW., Renton, Washington 98057-3356; phone: 425-917-6425; fax: 425-917-6590; e-mail: Steven.Fox@faa.gov.

SUPPLEMENTARY INFORMATION:

Comments Invited

We invite you to send any written relevant data, views, or arguments about this proposed AD. Send your comments to an address listed under the ADDRESSES section. Include “Docket No. FAA-2011-0303; Directorate Identifier 2010-NM-214-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On July 18, 2007, we issued AD 2007-15-10, Amendment 39-15139 (72 FR 41438, July 30, 2007), for all Boeing Model 747 airplanes. A correction of that AD was published in the Federal Register on September 21, 2007 (72 FR 53923), which corrected a typographical error in paragraph (g) compliance times of flight cycles to flight hours. That AD requires an inspection of the No. 2 and No. 3 windows on the left and right sides of the airplane to determine their part numbers, and related investigative and corrective actions if necessary; and repetitive inspections of single pane windows. That AD resulted from loss of a No. 3 window in-flight. We issued that AD to detect and correct cracking in the fail-safe interlayer of certain No. 2 and No. 3 glass windows, which could result in loss of the window and consequent rapid loss of cabin pressure. Loss of the window could also result in crew communication difficulties or incapacitation of the crew.

Actions Since Existing AD Was Issued

The preamble of the original NPRM for AD 2007-15-10 (Docket Number FAA-2006-26441, Directorate Identifier 2006-NM-204-AD) specifies that we consider the actions an “interim action until final action is identified, at which time we may consider further rulemaking”. We have determined that further rulemaking is indeed necessary; this proposed AD follows from that determination.

Relevant Service Information

AD 2007-15-10 cited Boeing Alert Service Bulletin 747-56A2012, dated August 24, 2006, as the relevant source of service information. Since we issued AD 2007-15-10, Boeing has issued Service Bulletin 747-56A2012, Revision 1, dated August 12, 2010. Boeing Service Bulletin 747-56A2012, Revision 1, dated August 12, 2010, describes essentially the same actions described in Boeing Alert Service Bulletin 747-56A2012, dated August 24, 2006, and also describes procedures for replacing single pane No. 2 and No. 3 windows with dual pane windows. Boeing Service Bulletin 747-56A2012, Revision 1, dated August 12, 2010, also removes airplanes line numbers 1418 and on from the effectivity. The inspections in Boeing Service Bulletin 747-56A2012, Revision 1, dated August 12, 2010, are not necessary on airplanes having line numbers 1418 and on, which have the new dual structural glass pane windows installed in production. Boeing Service Bulletin 747-56A2012, Revision 1, dated August 12, 2010, specifies that installation of the new dual structural glass pane windows ends the repetitive inspections specified in Boeing Alert Service Bulletin 747-56A2012, dated August 24, 2006.

FAA's Determination

We are proposing this AD because we evaluated all the relevant information and determined the unsafe condition described previously is likely to exist or develop in other products of the same type design.

Proposed AD Requirements

This proposed AD would retain certain requirements of AD 2007-15-10. This proposed AD would also require accomplishing the actions specified in Boeing Service Bulletin 747-56A2012, Revision 1, dated August 12, 2010, except as discussed under “Differences Between the Proposed AD and the Service Information.” This proposed AD also removes airplanes having line numbers 1418 and on from the applicability.

Differences Between the Proposed AD and the Service Information

This AD proposes to prohibit installed dual structural glass pane windows from being replaced with single structural glass pane windows. This proposed AD would also add a definition of “non-clear damage”, which the Accomplishment Instructions of Boeing Service Bulletin 747-56A2012, Revision 1, dated August 12, 2010, use as criteria for window replacement.

Costs of Compliance

We estimate that this proposed AD affects 144 airplanes of U.S. registry.

We estimate the following costs to comply with this proposed AD:

Estimated Costs
Action | Labor cost | Parts cost | Cost per product | Cost on U.S. operators
Inspection to determine window part numbers; retained from existing AD | 4 work-hours × $85 per hour = $340 | $0 | $340 | $48,960
Detailed inspection, if necessary; retained from existing AD | 1 work-hour × $85 per hour = $85 | 0 | 85 | 12,240
Dual pane window replacement; new proposed action | 16 work-hours × $85 per hour = $1,360 | 44,014 | 45,374 | 6,533,856

We estimate the following costs to do any necessary replacements that would be required based on the results of the proposed inspection. We have no way of determining the number of aircraft that might need these replacements:

On-Condition Costs
Action | Labor cost | Parts cost | Cost per product
Window replacement | 16 work-hours × $85 per hour = $1,360 | $44,014 | $45,374

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-15-10, Amendment 39-15139 (72 FR 41438, July 30, 2007), corrected at 72 FR 53923, September 21, 2007, and adding the following new AD:

The Boeing Company: Docket No. FAA-2011-0303; Directorate Identifier 2010-NM-214-AD.

Comments Due Date

(a) The FAA must receive comments on this AD action by May 23, 2011.

Affected ADs

(b) This AD supersedes AD 2007-15-10, Amendment 39-15139.

Applicability

(c) This AD applies to The Boeing Company Model 747-100, 747-100B, 747-100B SUD, 747-200B, 747-200C, 747-200F, 747-300, 747-400, 747-400D, 747-400F, 747SR, and 747SP Series Airplanes, certificated in any category, as identified in Boeing Service Bulletin 747-56A2012, Revision 1, dated August 12, 2010.

Subject

(d) Joint Aircraft System Component (JASC)/Air Transport Association (ATA) of America Code 56, Windows.

Unsafe Condition

(e) This AD was prompted by loss of a No. 3 window in-flight. We are issuing this AD to detect and correct cracking in the fail-safe interlayer of certain No. 2 and No. 3 glass windows, which could result in loss of the window and consequent rapid loss of cabin pressure. Loss of the window could also result in crew communication difficulties or incapacitation of the crew.

Compliance

(f) Comply with this AD within the compliance times specified, unless already done.

Restatement of Requirements of AD 2007-15-10, With New Service Information

Inspection, Related Investigative Actions, and Corrective Action

(g) Inspect the No. 2 and No. 3 windows on the left and right sides of the airplane to determine their part numbers, and do all the applicable related investigative and corrective actions, by accomplishing all of the actions specified in the Accomplishment Instructions of Boeing Alert Service Bulletin 747-56A2012, dated August 24, 2006; or Boeing Service Bulletin 747-56A2012, Revision 1, dated August 12, 2010; except as required by paragraph (j) of this AD; as applicable. Do all of these actions at the compliance times specified in Tables 1, 2, and 3 of paragraph 1.E. of Boeing Alert Service Bulletin 747-56A2012, dated August 24, 2006, as applicable, except as provided by paragraph (h) of this AD. A review of airplane maintenance records is acceptable in lieu of the inspection if the part numbers of the windows can be conclusively determined from that review. Repeat the related investigative and corrective actions thereafter at the interval specified in Table 2 or 3 of paragraph 1.E. of Boeing Alert Service Bulletin 747-56A2012, dated August 24, 2006, as applicable. As of the effective date of this AD, do the actions specified in this paragraph, in accordance with the Accomplishment Instructions of Boeing Service Bulletin 747-56A2012, Revision 1, dated August 12, 2010, except as required by (j) of this AD. Replacing a window in accordance with paragraph (i) of this AD terminates the requirements of this paragraph for that window.

Exception to Compliance Times

(h) Where Tables 1, 2, and 3 of paragraph 1.E. of Boeing Alert Service Bulletin 747-56A2012, dated August 24, 2006, specify counting the compliance time from “* * * after the date on this service bulletin,” this AD requires counting the compliance time from September 4, 2007 (the effective date of AD 2007-15-10). After replacing a discrepant window with a new window, having part number (P/N) 65B27042-(), 65B27043-(), 65B27046-(), or 65B27047-(), do the initial detailed inspection of the new window at the applicable compliance time: (1) Within 5,500 flight hours after installing P/N 65B27042-() or 65B27043-(), or (2) Within 22,000 flight hours after installing P/N 65B27046-() or 65B27047-().

New Requirements of This AD

(i) Within 6 years after the effective date of this AD, replace all No. 2 windows having P/N 65B27042-() or 65B27046-(), with windows having P/N 141U4821-() or 141U4822-(), and replace all No. 3 windows having P/N 65B27043-() or 65B27047-() with windows having P/N 141U4831-() or 141U4832-(), in accordance with Part 3—Window Replacement of the Accomplishment Instructions of Boeing Service Bulletin 747-56A2012, Revision 1, dated August 12, 2010. Doing this replacement for all windows terminates the actions required by paragraphs (g) and (h) of this AD.

(j) Where Step 4.e. of Part 2 of the Work Instructions of Boeing Service Bulletin 747-56A2012, Revision 1, dated August 12, 2010, specifies “non-clear damage” as a criteria for window replacement, this AD defines non-clear damage to be any degradation of the transparency of the window, which would hinder the internal or external detailed inspections for fail-safe interlayer cracks, glass pane cracks and chips, and indications of arcing. Replacement for non-clear damage is required by this AD only if the non-clear damage hinders the inspection for fail-safe interlayer cracks, glass pane cracks and chips, or indications of arcing.

Parts Installation

(k) As of the effective date of this AD, do not install any No. 2 or No. 3 window having P/N 65B27042-(), 65B27043-(), 65B27046-(), or 65B27047-() that is not new or on which the window flight hours are not known, on any airplanes, unless the actions specified in paragraph (g) of this AD are done.

Alternative Methods of Compliance (AMOCs)

(l)(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and the approval must specifically refer to this AD.

(4) AMOCs previously approved in accordance with AD 2007-15-10, Amendment 39-15139, are approved as AMOCs for the corresponding provisions of this AD except previous AMOCs approving window replacement that do not specify installing dual structural glass pane windows are not considered approved for corresponding inspection methods required by this AD.

Related Information

(m) For more information about this AD, contact Steven Fox, Senior Aerospace Engineer, Airframe Branch, ANM120S, Seattle Aircraft Certification Office (ACO), FAA, 1601 Lind Avenue, SW., Renton, Washington 98057-3356; phone: 425-917-6425; fax: 425-917-6590; e-mail: Steven.Fox@faa.gov. You may review copies of the referenced service information at the FAA, Transport Airplane Directorate, 1601 Lind Avenue, SW., Renton, Washington. For information on the availability of this material at the FAA, call 425-227-1221.

Issued in Renton, Washington, on March 23, 2011.
Kalene C. Yanamura,
Acting Manager, Transport Airplane Directorate, Aircraft Certification Service.

[FR Doc. 2011-8276 Filed 4-6-11; 8:45 am]

BILLING CODE 4910-13-P